NUCLEAR REGULATORY COMMISSION

Peer Review Committee for Source Term Modeling; Notice of Meeting

The Peer Review Committee For Source Term Modeling will hold a closed meeting on September 25-26, 2003 at 11545 Rockville Pike, Rockville, Maryland.

The entire meeting will be closed to public attendance to protect information classified as national security information pursuant to 5 U.S.C. 552b(c)(1).

The agenda for the subject meeting shall be as follows: Thursday September 25 and Friday, September 26, 2003-8:30 a.m. until the conclusion of business.

The Committee will review Sandia National Laboratories (SNL) activities and aid SNL in development of guidance documents for estimating source terms resulting from sabotage attacks on spent fuel transportation and storage containers. The guidance document will assist the NRC in evaluations of the impact of specific terrorist activities targeted at a range of spent fuel storage casks and radioactive material (RAM) transport packages. The committee's work is expected to result in a committee report on the SNL work to the NRC by September 30, 2003.

Further information contact: Andrew L. Bates, (telephone 301-415-1963) or Dr. Charles G. Interrante (telephone 301-415-3967) between 7:30 a.m. and 4:15 p.m. (ET).

Dated: August 27, 2003.
Andrew L. Bates,
Advisory Committee Management Officer.

[FR Doc. 03-22399 Filed 9-2-03; 8:45 am]

BILLING CODE 7590-01-P